SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 1 p.m. on March 12, 2009, in Scranton, Pa. At the public hearing, the Commission will consider: (1) Action on certain water resources projects and the modification of certain docket approvals, including one diversion into and out of the basin for water supply; (2) the rescission of several previous docket approvals; (3) a request for an administrative hearing on a project previously approved by the Commission; and (4) the adoption of a records processing fee schedule. Details concerning the matters to be addressed at the public hearing and business meeting are contained in the Supplementary Information section of this notice.

DATES: March 12, 2009.

ADDRESSES: Hilton Scranton & Conference Center, 100 Adams Avenue, Scranton, Pennsylvania 18503-1826.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net.

SUPPLEMENTARY INFORMATION: In addition to the public hearing and its related action items identified below, the business meeting also includes actions or presentations on the following items: (1) The United States Geological Survey (USGS) Velocity Demonstration Project; (2) present hydrologic conditions of the basin; (3) the 2009 Water Resources Program; (4) an Application Fee Policy for Mine Drainage Withdrawals to guide the granting of fee waivers or reductions to projects withdrawing mine drainage water; (5) presentation of the William Jeanes Award; (6) an Access to Records Policy governing public access to Commission records; (7) certain grant applications; (8) by-laws governing the organization and operation of the Commission; and (9) revision of the FY 2010 budget. The Commission will also hear a Legal Counsel's report.

Public Hearing—Projects Scheduled for Action

1. Project Sponsor and Facility: ALTA Operating Company, LLC (DuBois Creek), Great Bend Township, Susquehanna County, Pa. Application for surface water withdrawal of up to 0.010 mgd.

2. Project Sponsor and Facility: ALTA Operating Company, LLC (Snake Creek), Liberty Township, Susquehanna County, Pa. Application for surface water withdrawal of up to 0.099 mgd.

3. Project Sponsor and Facility: ALTA Operating Company, LLC (Susquehanna River), Great Bend Township, Susquehanna County, Pa. Application for surface water withdrawal of up to 3.000 mgd.

4. Project Sponsor and Facility: Anadarko E&P Company LP (Pine Creek), Cummings Township, Lycoming County, Pa. Application for surface water withdrawal of up to 2.450 mgd.

5. Project Sponsor and Facility: Anadarko E&P Company LP (West Branch Susquehanna River-1), Chapman Township, Clinton County, Pa. Application for surface water withdrawal of up to 0.720 mgd.

6. Project Sponsor and Facility: Anadarko E&P Company LP (West Branch Susquehanna River-2), Renovo Borough, Clinton County, Pa. Application for surface water withdrawal of up to 0.720 mgd.

7. Project Sponsor and Facility: Anadarko E&P Company LP (West Branch Susquehanna River-3), Nippenose Township, Lycoming County, Pa. Application for surface water withdrawal of up to 0.720 mgd.

8. Project Sponsor and Facility: Anadarko E&P Company LP (West Branch Susquehanna River-4), Burnside Township, Centre County, Pa. Application for surface water withdrawal of up to 0.720 mgd.

9. Project Sponsor and Facility: Cabot Oil & Gas Corporation (for operations in Susquehanna and Wyoming Counties, Pa.). Modification of consumptive use to comport with new regulations effective on January 15, 2009 (Docket No. 20080904).

10. Project Sponsor: CAN DO, Inc. Project Facility: Corporate Center, Hazle Township, Luzerne County, Pa. Application for groundwater withdrawal of 0.347 mgd from Well 1.

11. Project Sponsor and Facility: Cherokee Pharmaceuticals, LLC, Riverside Borough, Northumberland County, Pa. Application for consumptive water use of up to 0.500 mgd.

12. Project Sponsor and Facility: Cherokee Pharmaceuticals, LLC, Riverside Borough, Northumberland County, Pa. Application for surface water withdrawal of up to 34.000 mgd from the Susquehanna River.

13. Project Sponsor and Facility: Cherokee Pharmaceuticals, LLC, Riverside Borough, Northumberland County, Pa. Application for groundwater withdrawal of 0.600 mgd for treatment of groundwater contamination.

14. Project Sponsor and Facility: Chesapeake Appalachia, LLC (for operations in Chemung and Tioga Counties, N.Y., and Bradford, Susquehanna, and Wyoming Counties, Pa.). Modification of consumptive use to comport with new regulations effective on January 15, 2009 (Docket No. 20080902).

15. Project Sponsor and Facility: Chesapeake Appalachia, LLC (Susquehanna River), Terry Township, Bradford County, Pa. Application for surface water withdrawal of up to 0.999 mgd.

16. Project Sponsor and Facility: Chief Oil & Gas LLC (for operations in Bradford County, Pa.). Modification of consumptive use to comport with new regulations effective on January 15, 2009 (Docket No. 20080911).

17. Project Sponsor and Facility: Chief Oil & Gas LLC (for operations in Lycoming County, Pa.) Modification of consumptive use to comport with new regulations effective on January 15, 2009 (Docket No. 20080934).

18. Project Sponsor and Facility: Chief Oil & Gas LLC (for operations in Clearfield County, Pa.). Modification of consumptive use to comport with new regulations effective on January 15, 2009 (Docket No. 20081201).

19. Project Sponsor and Facility: Chief Oil & Gas LLC (Sugar Creek), West Burlington Township, Bradford County, Pa. Application for surface water withdrawal of up to 0.053 mgd.

20. Project Sponsor and Facility: Citrus Energy (for operations in Wyoming County, Pa.). Modification of consumptive use to comport with new regulations effective on January 15, 2009 (Docket No. 20081204).

21. Project Sponsor and Facility: Delta Borough, Peach Bottom Township, York County, Pa. Application for groundwater withdrawal of 0.032 mgd from Well DR-2.

22. Project Sponsor and Facility: East Resources, Inc. (for operations in Elmira, N.Y., Area). Modification of consumptive use to comport with new regulations effective on January 15, 2009 (Docket No. 20080603).

23. Project Sponsor and Facility: East Resources, Inc. (for operations in Mansfield, Pa., Area). Modification of consumptive use to comport with new regulations effective on January 15, 2009 (Docket No. 20080608).

24. Project Sponsor and Facility: EOG Resources, Inc. (Bennett Branch-1, Sinnemahoning Creek), Jay Township, Elk County, Pa. Application for surface water withdrawal of up to 0.171 mgd.

25. Project Sponsor and Facility: EOG Resources, Inc. (Bennett Branch-2, Sinnemahoning Creek), Jay Township, Elk County, Pa. Application for surface water withdrawal of up to 0.152 mgd.

26. Project Sponsor and Facility: EOG Resources, Inc. (Bennett Branch-3, Sinnemahoning Creek), Huston Township, Clearfield County, Pa. Application for surface water withdrawal of up to 0.290 mgd.

27. Project Sponsor and Facility: EOG Resources, Inc. (Chemung River-1), Chemung Town, Chemung County, N.Y. Application for surface water withdrawal of up to 0.322 mgd.

28. Project Sponsor and Facility: EOG Resources, Inc. (Chemung River-2), Athens Township, Bradford County, Pa. Application for surface water withdrawal of up to 0.322 mgd.

29. Project Sponsor and Facility: EOG Resources, Inc. (Kersey Run), Jay Township, Elk County, Pa. Application for surface water withdrawal of up to 0.070 mgd.

30. Project Sponsor and Facility: EOG Resources, Inc. (Sugar Creek-1), Burlington Borough, Bradford County, Pa. Application for surface water withdrawal of up to 0.099 mgd.

31. Project Sponsor and Facility: EOG Resources, Inc. (Sugar Creek-2), North Towanda Town, Bradford County, Pa. Application for surface water withdrawal of up to 0.099 mgd.

32. Project Sponsor and Facility: EOG Resources, Inc. (Susquehanna River-1), Athens Borough, Bradford, Pa. Application for surface water withdrawal of up to 0.322 mgd.

33. Project Sponsor and Facility: EOG Resources, Inc. (Susquehanna River-2), Ulster and Sheshequin Townships, Bradford County, Pa. Application for surface water withdrawal of up to 0.322 mgd.

34. Project Sponsor and Facility: EOG Resources, Inc. (West Creek), Benzinger Township, Elk County, Pa. Application for surface water withdrawal of up to 0.096 mgd.

35. Project Sponsor and Facility: Fortuna Energy Inc. (for operations in Southern Tier of N.Y., and Tioga and Bradford Counties, Pa.). Modification of consumptive use to comport with new regulations effective on January 15, 2009 (Docket No. 20080601).

36. Project Sponsor and Facility: Fortuna Energy Inc. (Sugar Creek), West Burlington Township, Bradford County, Pa. Application for surface water withdrawal of up to 0.250 mgd.

37. Project Sponsor and Facility: Global Tungsten & Powders Corp., Towanda Borough, Bradford County, Pa. Application for consumptive water use of up to 0.170 mgd.

38. Project Sponsor: IBM Corp. Project Facility: Endicott, Village of Endicott, Broome County, N.Y. Application for groundwater withdrawal of 1.010 mgd for treatment of groundwater contamination.

39. Project Sponsor and Facility: J-W Operating Company (for operations in Cameron, Clearfield, and Elk Counties, Pa.). Modification of consumptive use to comport with new regulations effective on January 15, 2009 (Docket No. 20081211).

40. Project Sponsor and Facility: J-W Operating Company (Sterling Run), Lumber Township, Cameron County, Pa. Application for surface water withdrawal of up to 0.499 mgd.

41. Project Sponsor: New Enterprise Stone & Lime Co., Inc. Project Facility: Ashcom Quarry, Snake Spring Valley Township, Bedford County, Pa. Modification to docket approval (Docket No. 20031204).

42. Project Sponsor and Facility: Pennsylvania General Energy Company, LLC (for operations in Potter and McKean Counties, Pa.). Modification of consumptive use to comport with new regulations effective on January 15, 2009 (Docket No. 20080921).

43. Project Sponsor and Facility: Range Resources—Appalachia, LLC (for operations in Bradford, Centre, Clinton, Lycoming, Sullivan, and Tioga Counties, Pa.). Modification of consumptive use to comport with new regulations effective on January 15, 2009 (Docket No. 20080931).

44. Project Sponsor and Facility: Rex Energy Corporation (for operations in Centre and Clearfield Counties, Pa.). Modification of consumptive use to comport with new regulations effective on January 15, 2009 (Docket No. 20080941).

45. Project Sponsor and Facility: Schuylkill County Municipal Authority, Pottsville Public Water Supply System, Mount Laurel Subsystem, Butler Township, Schuylkill County, Pa. Application for a withdrawal of up to 0.432 mgd from the Gordon Well.

46. Project Sponsor and Facility: Turm Oil, Inc. (for operations in Susquehanna County, Pa.). Modification of consumptive use to comport with new regulations effective on January 15, 2009 (Docket No. 20081223).

47. Project Sponsor and Facility: Ultra Resources (for operations in Tioga and Potter Counties, Pa.). Modification of consumptive use to comport with new regulations effective on January 15, 2009 (Docket No. 20081228).

48. Project Sponsor and Facility: Ultra Resources (Pine Creek), Pike Township, Potter County, Pa. Application for surface water withdrawal of 0.430 mgd.

49. Project Sponsor and Facility: Water Treatment Solutions, LLC (West Branch Susquehanna River), Williamsport, Lycoming County, Pa. Application for surface water withdrawal of 0.499 mgd.

Public Hearing—Project Scheduled for Action Involving a Diversion

1. Project Sponsor and Facility: Schuylkill County Municipal Authority, Pottsville Public Water Supply System, Mount Laurel Subsystem, Butler Township, Schuylkill County, Pa. Applications for: (1) An out-of-basin diversion to the Delaware River Basin for water supply; and (2) an existing into-basin diversion of wastewater of up to 1.100 mgd from the Delaware River Basin.

Public Hearing—Projects Scheduled for Rescission Action

1. Project Sponsor: Harristown Development Corporation. Project Facility: Strawberry Square (Docket No. 20030410), City of Harrisburg, Dauphin County, Pennsylvania.

2. Project Sponsor and Facility: Millennium Pipeline Company, L.L.C. (Docket No. 20080301), Broome, Tioga, and Chemung Counties, N.Y.

3. Project Sponsor and Facility: Millennium Pipeline Company, L.L.C. (Docket No. 20080302), Town of Windsor, Broome County, and Town of Horseheads, Chemung County, N.Y.

Public Hearing—Records Processing Fee Schedule

1. The proposed fee schedule would accompany an Access to Records Policy that the Commission is expected to consider, which would establish procedures for requesting access to Commission records. The fees would reimburse the Commission for the costs associated with meeting records requests.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Stephanie L. Richardson, Secretary to the Commission, e-mail: srichardson@srbc.net. Comments mailed or electronically submitted must be received prior to March 10, 2009, to be considered.

Authority: Pub. L. 91-575, 84 Stat. 1509 et seq., 18 CFR Parts 806, 807, and 808.

Dated: February 10, 2009.
Thomas W. Beauduy,
Deputy Director.

[FR Doc. E9-3974 Filed 2-24-09; 8:45 am]

BILLING CODE 7040-01-P